DEPARTMENT OF TRANSPORTATION

National Highway Traffic Safety Administration

[Docket No. NHTSA-2025-0127]

Agency Information Collection Activities; Notice and Request for Comment; 49 CFR Part 595, Subpart B, Retrofit Air Bag Switches

AGENCY: National Highway Traffic Safety Administration (NHTSA), Department of Transportation (DOT).

ACTION: Notice and request for comments on a request for reinstatement with modification of a previously approved information collection.

SUMMARY: NHTSA invites public comments about our intention to request approval from the Office of Management and Budget (OMB) for reinstatement with modification of a previously approved information collection. Before a Federal agency can collect certain information from the public, it must receive approval from OMB. Under procedures established by the Paperwork Reduction Act of 1995, before seeking OMB approval, Federal agencies must solicit public comment on proposed collections of information, including extensions and reinstatement of previously approved collections. This document describes a collection of information for which NHTSA intends to seek OMB approval associated with the process of obtaining authorization for the installation of retrofit air bag switches.

DATES: Comments must be submitted on or before September 22, 2025.

ADDRESSES: You may submit comments identified by the Docket No. NHTSA-2025-0127 through any of the following methods:

• Electronic submissions: Go to the Federal eRulemaking Portal at http://www.regulations.gov. Follow the online instructions for submitting comments.

• Fax: (202) 493-2251.

• Mail or Hand Delivery: Docket Management, U.S. Department of Transportation, 1200 New Jersey Avenue SE, West Building, Room W12-140, Washington, DC 20590, between 9 a.m. and 5 p.m., Monday through Friday, except on Federal holidays.

Instructions: All submissions must include the agency name and docket number for this notice. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit https://www.transportation.gov/privacy.

Docket: For access to the docket to read background documents or comments received, go to http://www.regulations.gov or the street address listed above. Follow the online instructions for accessing the dockets via internet.

FOR FURTHER INFORMATION CONTACT: For additional information or access to background documents, contact Ms. Carla Rush (email: carla.rush@dot.gov). For legal issues, you may contact Mr. Eli Wachtel (email: eli.wachtel@dot.gov). You can reach these officials by phone at 202-366-1810. Please identify the relevant collection of information by referring to its OMB Control Number.

SUPPLEMENTARY INFORMATION: Under the Paperwork Reduction Act of 1995 (44 U.S.C. 3501 et seq.), before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following: (a) whether the proposed collection of information is necessary for the proper performance of the functions of the agency, including whether the information will have practical utility; (b) the accuracy of the agency's estimate of the burden of the proposed collection of information, including the validity of the methodology and assumptions used; (c) how to enhance the quality, utility, and clarity of the information to be collected; and (d) how to minimize the burden of the collection of information on those who are to respond, including the use of appropriate automated, electronic, mechanical, or other technological collection techniques or other forms of information technology, e.g. permitting electronic submission of responses. In compliance with these requirements, NHTSA asks for public comments on the following proposed collection of information for which the agency is seeking approval from OMB.

Title: 49 CFR part 595, subpart B, Retrofit Air Bag Switches.

OMB Control Number: 2127-0588.

Form Number(s): HS Forms 603 and 2035.

Type of Request: Reinstatement with modification of a previously approved information collection.

Type of Review Requested: Regular.

Requested Expiration Date of Approval: 3 years from date of approval.

Summary of the Collection of Information: This information collection is associated with the process of obtaining authorization for the installation of retrofit air bag switches. The modifications to the previously approved information collection include accounting for the installation return form that the air bags switch installers must return to NHTSA, updating the estimated number of requests per year, accounting for printing costs, and allowing electronic submission of the request form.

Description of the Need for the Information and Proposed Use of the Information: The completed retrofit air bag switch request form serves a variety of purposes. First, it seeks to ensure that the vehicle owner has read the agency's air bag information brochure. Second, the request form includes a list of the eligibility criteria for a retrofit on-off switch with a check box next to each justification, and the applicant must select which justification they are requesting an air bag switch under as part of completing the request form. Third, by requiring that the vehicle owner initial a statement about the safety consequences of turning off an air bag, the form seeks to ensure that the authorization is made with full knowledge of those consequences. Fourth, by requiring the owners to certify the accuracy of the information provided on the form and to acknowledge the applicability of 18 U.S.C. 1001, the form will increase the likelihood of accurate certifications.

The submission of the completed air bag switch installation forms by the dealers and repair businesses to NHTSA, as required by the regulation, will serve several agency purposes. They will aid the agency in monitoring the number of air bag switch installations performed. The completed installation forms will enable NHTSA to determine whether the dealers and repair businesses are complying with the terms of the exemption, which include a requirement that the dealers and repair businesses only perform approved retrofit air bag switch installations. Finally, submission of the completed installation forms to NHTSA will provide a record of what vehicles have an installed retrofit air bag switch.

Affected Public: Private individuals, motor vehicle dealers, and repair businesses.

Estimated Number of Respondents: 300.

Frequency: Once.

Estimated Total Annual Burden Hours: NHTSA estimates that the time to complete the air bag switch request form is 0.5 hour and the time to complete the switch installation return form is 0.1 hour. Based on the previously approved information collection, on average we receive 150 air bag switch request forms annually.¹ We are assuming that everyone who submits a switch request form would be approved and would have a switch installed. This means that we would expect 150 installation return forms to be filled out. Therefore, the total estimated burden hours for this collection of information is 90 hours (See Table 1).

¹ There has been a recent decline in air bag switch requests; however, that can be attributed to Coronavirus Disease 2019 (COVID-19) and the expiration date of the previously approved information collection, listed on the form is February 2020.

To calculate the labor cost associated with filling out the forms associated with this information collection NHTSA used the median wage estimate for all occupations for the respondents that would be filling out the forms. The Bureau of Labor Statistics (BLS) estimates that this median hourly wage is $23.80 in 2024 dollars.² We did not attribute a labor cost for the burden associated with filling out the installation return forms because the form is completed during the air bag switch installation. Therefore, NHTSA estimates the total labor cost associated with the 90 burden hours to be $1,785 annually. Table 1 provides a summary of the burden estimates and the estimated burden hours and labor costs associated with each individual form.

² Bureau of Labor Statistics, May 2024 National Occupational Employment and Wage Estimates, median wage for all occupations, available at https://www.bls.gov/oes/current/oes_nat.htm#00-0000.

Table 1—Estimated Annual Burden Hours and Labor Cost
Information collection | Number of respondents | Total annual burden hours per respondent | Hourly labor cost | Total annual labor cost per respondent | Total annual burden hours | Total annual labor cost
Appendix B—Switch Request Form | 150 | 0.5 | $23.80 | $11.90 | 75 | $1,785.00
Appendix C—Switch Return Form | 150 | 0.1 |  | 0.00 | 15 | $0.00
Total | 300 |  |  |  | 90 | 1,785.00

Estimated Total Annual Burden Cost: In order to provide the agency with the information requested the respondents must mail, fax, or email the forms. In the previously approved information collection email submission was not an option and there were respondents that used fax to avoid mail delays. We believe that with this information collection respondents will largely opt to use the email submission option. NHTSA estimates there will be no additional costs to respondents that choose to submit the forms electronically. Therefore, assuming all the respondents will mail the forms to NHTSA will be a conservative cost burden estimate (overestimate). Using the above estimates of the number of forms submitted (300 annually), the estimated cost of printing and mailing the forms first-class by individuals ($1.53 per form), yields a cost burden to the respondents of $459.00 annually.

Public Comments Invited: You are asked to comment on any aspects of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

Authority: The Paperwork Reduction Act of 1995; 44 U.S.C. Chapter 35, as amended; 49 CFR 1.49; and DOT Order 1351.29A.

David Hines,
Acting Associate Administrator for Rulemaking.

[FR Doc. 2025-13737 Filed 7-21-25; 8:45 am]

BILLING CODE 4910-59-P